DEPARTMENT OF AGRICULTURE

Agricultural Marketing Service

[Document Number AMS-SC-18-0014]

Fruit and Vegetable Industry Advisory Committee

AGENCY: Agricultural Marketing Service, USDA.

ACTION: Notice of reestablishment of the U.S. Department of Agriculture (USDA) Fruit and Vegetable Industry Advisory Committee and second request for nominations.

SUMMARY: The U.S. Department of Agriculture (USDA) intends to reestablish the Fruit and Vegetable Industry Advisory Committee (FVIAC). The purpose of the FVIAC is to examine the full spectrum of issues faced by the fruit and vegetable industry and provide recommendations and ideas to the Secretary on how USDA can tailor its programs to better meet the needs of the fruit and vegetable industry. USDA also seeks additional nominations of individuals to be considered for selection to the FVIAC. Nominees who answered the first call for nominations published in Federal Register on August 2, 2017, need not reapply. All 25 positions on the FVIAC will be filled. All previous members must apply.

DATES: Written nominations must be postmarked on or before May 24, 2018.

ADDRESSES: Nomination applications can be sent via email to Marlene Betts at Marlene.Betts@ams.usda.gov or Valerie Minick at Valerie.Minick@ams.usda.gov, or mailed to: USDA-AMS-SCP, 1400 Independence Avenue SW, Room 2077-S, Stop 0235, Washington, DC 20250-0235. Electronic submittals are preferred.

FOR FURTHER INFORMATION CONTACT: Marlene Betts (202) 720-5057; Email: marlene.betts@ams.usda.gov.

SUPPLEMENTARY INFORMATION: Pursuant to the Federal Advisory Committee Act (FACA) (5 U.S.C. App. 2), notice is hereby given that the Secretary of Agriculture intends to reestablish the FVIAC for two years. The purpose of the FVIAC is to examine the full spectrum of issues faced by the fruit and vegetable industry and provide recommendations and ideas to the Secretary on how USDA can tailor its programs to better meet the fruit and vegetable industry's needs.

The Deputy Administrator of the Agricultural Marketing Service's Specialty Crops Program will serve as the FVIAC Executive Secretary. Representatives from USDA mission areas and agencies affecting the fruit and vegetable industry will be called upon to participate in the FVIAC's meetings as determined by the FVIAC Executive Secretary and the FVIAC.

Industry members are appointed by the Secretary of Agriculture and will serve staggered terms of up to 2 years. Approximately half of the FVIAC will serve a one-year term, with the remainder serving a two-year term. No member can serve more than six consecutive years. FVIAC membership consists of no more than 25 members who represent the fruit and vegetable industry, and will include individuals representing fruit and vegetable growers/shippers, fruit and vegetable wholesalers/distributors, brokers, retailers/restaurant representatives, fresh-cut and other fruit and vegetable processors, and foodservice suppliers. It should also include individuals representing farmers markets and food hubs, organic and non-organic fruit and vegetable representatives, and representatives from state departments of agriculture, farmer organizations, and produce trade associations.

Through this Notice and the Notice published on August 2, 2017 (82 FR 35926), the USDA seeks to fulfill two goals. Firstly, it is seeking additional nominations to fill all twenty-five (25) seats on the FVIAC. Due to the timing of the publication of renewal notice (83 FR 35926), and the expiration of the members' terms, it was determined that the FVIAC charter be reestablished and all 25 positions on the FVIAC be filled. Therefore, we are calling for additional nominees to fill all positions on the FVIAC. Previous FVIAC members must apply to be considered. The Secretary of Agriculture will appoint one person to each of these twenty-five (25) positions. Approximately one-half of the FVIAC will serve a 1-year term and the remainder of the FVIAC will serve a 2-year term.

Secondly, the USDA is seeking nominations to fill future unexpected vacancies in any of the position categories. These nominations will be held as a pool of candidates that the Secretary of Agriculture can draw upon as replacement appointees if unexpected vacancies occur. A person appointed to fill a vacancy will serve for the remainder of the term of the vacant position.

The Secretary of Agriculture invites those individuals, organizations, and groups affiliated with the categories listed above to nominate individuals or themselves for membership on the FVIAC. Nominations should describe and document the proposed member's fruit and vegetable industry qualifications for membership to the FVIAC. The Secretary of Agriculture seeks a diverse group of members representing a broad spectrum of persons interested in providing suggestions and ideas on how USDA can tailor its programs to meet the fruit and vegetable industry's needs.

To nominate yourself or someone else, please submit the following: A resume (required), Form AD-755 (required), which can be accessed at: https://www.ams.usda.gov/about-ams/facas-advisory-councils/fviac/nominations, a cover letter, and a list of endorsements or letters of recommendation (optional). Resumes must be no longer than 5 pages, and should include a summary of the following information: Current and past organization affiliations; areas of expertise; education; career positions held; any other notable positions held.

Equal opportunity practices will be followed in all appointments to the FVIAC in accordance with USDA policies. To ensure that FVIAC recommendations take into account the needs of the diverse groups served by USDA, membership shall include, to the extent practicable, individuals with demonstrated ability to represent minorities, women, persons with disabilities and limited resource agriculture producers.

The information collection requirements concerning the nomination process have been previously cleared by the Office of Management and Budget (OMB) under OMB Control No. 0505-0001.

Dated: April 19, 2018.
Bruce Summers,
Acting Administrator.

[FR Doc. 2018-08529 Filed 4-23-18; 8:45 am]

BILLING CODE 3410-02-P